DEPARTMENT OF DEFENSE

Department of the Army

Availability for Non-Exclusive, Exclusive, or Partially Exclusive Licensing of U.S. Patent Application Concerning Method of Diagnosing Stage or Aggressive of Breast and Prostate Cancer Based on Levels of Fatty Acids Binding Proteins

AGENCY: Department of the Army, DoD.

ACTION: Notice.

SUMMARY: In accordance with 37 CFR 404.6, announcement is made of the availability for licensing of U.S. Patent Application No. 09/451,513 entitled “Method of Diagnosing Stage or Aggressiveness of Breast and Prostate Cancer Based on Levels of Fatty Acids Binding Proteins” filed Nov. 30, 1999. Foreign rights are also available (PCT/US99/28314), filed Nov. 30, 1999. The United States Government as represented by the Secretary of the Army has rights in this invention.

ADDRESSES: Commander, U.S. Army Medical Research and Materiel Command, ATTN: Command Judge Advocate, MCMR-JA, 504 Scott Street, Fort Detrick, Frederick, Maryland 21702-5012.

FOR FURTHER INFORMATION CONTACT: For patent issues, Ms. Elizabeth Arwine, Patent Attorney, (301) 619-7808. For licensing issues, Dr. Paul Mele, Office of Research & Technology Assessment, (301) 619-6664, both at telefax (301) 619-5034.

SUPPLEMENTARY INFORMATION: A method of diagnosing the stage or aggressiveness of cancer and particularly breast and prostate cancer by measuring the deviation of levels of fatty acid binding proteins in mammalian tissue or body fluids from normal levels of fatty acid binding proteins. The invention relates to a family of key proteins levels of fatty acid binding proteins. The invention relates to a family of key proteins called fatty acid binding proteins, which are involved in metabolism of AA and other lipids and how they affect the proliferation of cancer cells.

Luz D. Ortiz,
Army Federal Register Liaison Officer.

[FR Doc. 02-8677 Filed 4-9-02; 8:45 am]

BILLING CODE 3710-08-M